SMALL BUSINESS ADMINISTRATION

[Declaration of Disaster #3313]

State of New York; (and Contiguous Counties in New Jersey)

Rockland County and the contiguous counties of Orange and Westchester in the State of New York and Bergen and Passaic Counties in the State of New Jersey constitute a disaster area due to damages caused by a severe fire that occurred on December 11, 2000. Applications for loans for physical damage as a result of this disaster may be filed until the close of business on March 2, 2001 and for economic injury until the close of business on October 1, 2001 at the address listed below or other locally announced locations: U.S. Small Business Administration, Disaster Area 1 Office, 360 Rainbow Blvd., South 3rd Floor, Niagara Falls, NY 14303.

| Percent
For Physical Damage:
Homeowners With Credit Available Elsewhere | 7.000
Homeowners Without Credit Available Elsewhere | 3.500
Businesses With Credit Available Elsewhere | 8.000
Businesses and Non-Profit Organizations Without Credit Available Elsewhere | 4.000
Others (Including Non-Profit Organizations) With Credit Available Elsewhere | 7.000
For Economic Injury:
Businesses and Small Agricultural Cooperatives Without Credit Available Elsewhere | 4.000

The numbers assigned to this disaster for physical damage are 331305 for New York and 331405 for New Jersey. For economic injury, the numbers are 9K0800 for New York and 9K0900 for New Jersey.

(Catalog of Federal Domestic Assistance Program Nos. 59002 and 59008)

Dated: December 29, 2000.
Charles Payne,
Acting Administrator.

[FR Doc. 01-907 Filed 1-10-01; 8:45 am]

BILLING CODE 8025-01-P